DEPARTMENT OF COMMERCE

National Oceanic and Atmospheric Administration

RIN 0648-XA566

Marine Mammals; File No. 15511

AGENCY: National Marine Fisheries Service (NMFS), National Oceanic and Atmospheric Administration (NOAA), Commerce.

ACTION: Notice; issuance of permit.

SUMMARY: Notice is hereby given that a permit has been issued to SeaWorld, LLC., 9205 South Center Loop, Suite 400 Orlando, FL 32819, to import one short-finned pilot whale for public display.

ADDRESSES: The permit and related documents are available for review upon written request or by appointment in the following offices:

Permits, Conservation and Education Division, Office of Protected Resources, NMFS, 1315 East-West Highway, Room 13705, Silver Spring, MD 20910; phone (301) 427-8401; fax (301) 713-0376; and Southwest Region, NMFS, 501 West Ocean Blvd., Suite 4200, Long Beach, CA 90802-4213; phone (562) 980-4001; fax (562) 980-4018;

FOR FURTHER INFORMATION CONTACT: Kristy Beard or Jennifer Skidmore, (301) 427-8401.

SUPPLEMENTARY INFORMATION: On July 2, 2010, notice was published in the Federal Register (75 FR 38457) that a request for a permit to import one short-finned pilot whale (Globicephala macrorhynchus) for public display had been submitted by the above-named applicant. The requested permit has been issued under the authority of the Marine Mammal Protection Act of 1972, as amended (16 U.S.C. 1361 et seq.) and the regulations governing the taking and importing of marine mammals (50 CFR part 216). The permit is valid through July 31, 2012.

In compliance with the National Environmental Policy Act of 1969 (42 U.S.C. 4321 et seq.), a final determination has been made that the activity proposed is categorically excluded from the requirement to prepare an environmental assessment or environmental impact statement.

Dated: July 11, 2011.
P. Michael Payne,
Chief, Permits, Conservation and Education Division, Office of Protected Resources, National Marine Fisheries Service.

[FR Doc. 2011-17909 Filed 7-15-11; 8:45 am]

BILLING CODE 3510-22-P